DEPARTMENT OF THE INTERIOR

National Park Service

Winter Use Plan, Draft Supplemental Environmental Impact Statement for the Yellowstone and Grand Teton National Parks and the John D. Rockefeller, Jr., Memorial Parkway, Wyoming and Montana

AGENCY: National Park Service, Department of the Interior.

ACTION: Notice of availability of a Draft Supplemental Environmental Impact Statement for the Winter Use Plan for the Yellowstone and Grand Teton National Parks and the John D. Rockefeller, Jr., Memorial Parkway.

SUMMARY: Pursuant to section 102(c) of the National Environmental Policy Act of 1969, the National Park Service announces the availability of Draft Supplemental Environmental Impact Statement for the Yellowstone and Grand Teton National Parks and the John D. Rockefeller, Jr., Memorial Parkway, Wyoming and Montana. The purpose for preparing the Plan/SEIS is to further the purposes of NEPA by soliciting more public comment and to consider additional information on new snowmobile technology not available at the time of the earlier decision. It analyzes 4 winter use management alternatives for the parks and evaluates the environmental consequences of the alternatives on wildlife, air quality, natural quiet, socioeconomics, and visitor experience.

Under alternative 1a-No Action, use and management practices in the parks and Parkway as decided by the November 22, 2000 record of decision for the Winter Use Plan, Final Environmental Impact Statement for the Yellowstone and Grand Teton National Parks and John D. Rockefeller, Jr., Memorial Parkway would continue. The decision eliminated recreational snowmobile and snowplane use from the parks and Parkway by the winter of 2003-2004. Oversnow motorized access would be provided by means of mass transit snowcoaches. Alternative 1b is essentially the same as alternative 1a with the exception that an additional year would be allowed for the phasing in of snowcoach only travel. Alternative 2 allows for the use of snowmobiles provided that EPA's proposed 2010 emission standards are met and sound levels do not exceed 78 decibels for publicly owned machines. It calls for a daily cap on numbers of snowmobiles and for increased NPS management of winter use. Alternative 3 provides for guided use of snowmobiles provided that best available technology standards for both emissions and noise levels are met for all machines. All alternatives emphasize an adaptive management strategy under which the number of snowmobiles allowed in the parks may be adjusted based on the results of monitoring and carrying capacity studies.

DATES: The NPS will accept comments on the DSEIS for 60 days beginning March 29, 2002. No public meetings are scheduled at this time.

ADDRESSES: Information will be available for public review and comment in the offices of the Superintendents and on the internet at www.nps.gov/grte/winteruse/intro.htm.

FOR FURTHER INFORMATION CONTACT: Superintendent, Grand Teton National Park, (307) 739-3410.

SUPPLEMENTARY INFORMATION: If you wish to comment, you may submit your comments by any one of several methods. You may mail comments to Planning Office, Grand Teton National Park, PO Box 352, Moose, WY 83012. You may also comment via email to grte_winter_use_seis@nps.gov. Finally, you may hand-deliver comments to Grand Teton National Park, Moose, WY. We will not consider comments that do not include the name and mailing address of the submitter(s). Our practice is to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. We will make all submissions from organizations or businesses, and from individuals identifying themselves as representatives or officials of organizations or businesses, available for public inspection in their entirety.

Dated: March 13, 2002.
R. Everhart,
Director, Intermountain Region, National Park Service.

[FR Doc. 02-7627 Filed 3-28-02; 8:45 am]

BILLING CODE 4310-70-P